DEPARTMENT OF THE INTERIOR

Fish and Wildlife Service

[FWS-R4-R-2010-N159; 40136-1265-0000-S3]

Watercress Darter National Wildlife Refuge, Jefferson County, AL

AGENCY: Fish and Wildlife Service, Interior.

ACTION: Notice of availability: Final comprehensive conservation plan and finding of no significant impact.

SUMMARY: We, the Fish and Wildlife Service (Service), announce the availability of our final comprehensive conservation plan (CCP) and finding of no significant impact (FONSI) for the environmental assessment for Watercress Darter National Wildlife Refuge (NWR). In the final CCP, we describe how we will manage this refuge for the next 15 years.

ADDRESSES: You may obtain a copy of the CCP by writing to: Mr. Stephen A. Miller, Refuge Manager, Mountain Longleaf NWR, P.O. Box 54087, Anniston, AL 36205. The CCP may also be accessed and downloaded from the Service's Web site: http://southeast.fws.gov/planning/ under “Final Documents.”

FOR FURTHER INFORMATION CONTACT: Mr. Mike Dawson, Refuge Planner, Jackson, MS; telephone: 601/965-4903, ext. 20; fax: 601/965-4010; e-mail: mike_dawson@fws.gov.

SUPPLEMENTARY INFORMATION:

Introduction

With this notice, we finalize the CCP process for Watercress Darter NWR. We started this process through a notice in the Federal Register on March 12, 2007 (72 FR 11048).

Watercress Darter NWR, near the city of Bessemer, Jefferson County, Alabama, was established by the Service in 1980, to provide protection for the endangered watercress darter. The refuge is only about 24 acres of ponds, mixed pine-hardwood forest, and a residence, and contains Thomas Spring. A second pond was constructed on the refuge in 1983, to provide additional watercress darter habitat. The refuge is unstaffed and administered by Mountain Longleaf NWR.

We announce our decision and the availability of the final CCP and FONSI for Watercress Darter NWR in accordance with the National Environmental Policy Act (NEPA) [40 CFR 1506.6(b)] requirements. We completed a thorough analysis of impacts on the human environment, which we included in the Draft Comprehensive Conservation Plan and Environmental Assessment (Draft CCP/EA).

The CCP will guide us in managing and administering Watercress Darter NWR for the next 15 years. Alternative C, as we described in the final CCP, is the foundation for the CCP.

The compatibility determinations for wildlife observation and photography and environmental education and interpretation are also available in the final CCP.

Background

The National Wildlife Refuge System Administration Act of 1966 (16 U.S.C. 668dd-668ee) (Administration Act), as amended by the National Wildlife Refuge System Improvement Act of 1997, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation, wildlife photography, and environmental education and interpretation. We will review and update the CCP at least every 15 years in accordance with the Administration Act.

Comments

We made copies of the Draft CCP/EA available for a 30-day public review period as announced in the Federal Register on April 16, 2010 (75 FR 19988). We received five comments on the Draft CCP/EA.

Selected Alternative

The Draft CCP/EA identified and evaluated three alternatives for managing the refuge. After considering the comments we received and based on the professional judgment of the planning team, we selected Alternative C for implementation. Under Alternative C, we will optimize habitat management and visitor services throughout the refuge.

Threats to the refuge are becoming more prominent as development activities occur in the city of Bessemer, Alabama. Watercress Darter NWR is a small system that can be greatly compromised by activities a distance away from its boundary. We fully recognize the impact these activities could have on the integrity of the refuge. In addition to our current management, we will extend beyond the immediate neighbors to address issues associated with the aquifer and spring recharge area, watershed, and biota exchange pathways. Extensive resource sharing and networking with other protected areas, state agencies, local governments, organizations, specialists, researchers, and private citizens will expand the knowledge base and assist in developing cooperation between interest groups. Restoration of natural systems, native communities, and healthy environments will be emphasized, promoting regionally a high-quality of life. Monitoring environmental parameters and flora and fauna will be incorporated into an integrated study to gain knowledge on the health of the refuge ecosystem. Education and outreach will be expanded, with an emphasis on cultural and historical resources. Staffing will be developed to meet the needs of partners and the greater number of interest groups and accommodate data and resource sharing. An increase in staff is presented in this alternative so that Watercress Darter NWR can be managed with a greater emphasis on landscape management. Additional staff members needed to fully implement this alternative at the highest quality level includes one position at Watercress Darter NWR and four positions shared between Cahaba River NWR and Watercress Darter NWR.

Authority: This notice is published under the authority of the National Wildlife Refuge System Improvement Act of 1997, Public Law 105-57.

Dated: September 14, 2010.
Mark J. Musaus,
Acting Regional Director.

[FR Doc. 2010-32080 Filed 12-21-10; 8:45 am]

BILLING CODE 4310-55-P